DEPARTMENT OF COMMERCE

National Oceanic and Atmospheric Administration

50 CFR Part 229

[Docket No. 170303230-7924-01]

RIN 0648-BG72

List of Fisheries for 2018

AGENCY: National Marine Fisheries Service (NMFS), National Oceanic and Atmospheric Administration (NOAA), Commerce.

ACTION: Proposed rule.

SUMMARY: The National Marine Fisheries Service (NMFS) publishes its proposed List of Fisheries (LOF) for 2018, as required by the Marine Mammal Protection Act (MMPA). The LOF for 2018 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements.

DATES: Comments must be received by November 13, 2017.

ADDRESSES: You may submit comments on this document, identified by NOAA-NMFS-2017-0031, by either of the following methods:

• Electronic Submission: Submit all electronic public comments via the Federal e-Rulemaking Portal.

1. Go to www.regulations.gov/#!docketDetail;D=NOAA-NMFS-2017-0031,

2. Click the “Comment Now!” icon, complete the required fields.

3. Enter or attach your comments.

• Mail: Submit written comments to Chief, Marine Mammal and Sea Turtle Conservation Division, Office of Protected Resources, NMFS, 1315 East-West Highway, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Kristy Long, Office of Protected Resources, 301-427-8402; Allison Rosner, Greater Atlantic Region, 978-281-9328; Jessica Powell, Southeast Region, 727-824-5312; Dan Lawson, West Coast Region, 562-980-3209; Suzie Teerlink, Alaska Region, 907-586-7240; Kevin Brindock, Pacific Islands Region, 808-725-5146. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: Tier 1 considers the cumulative fishery mortality and serious injury for a particular stock. If the total annual mortality and serious injury of a marine mammal stock, across all fisheries, is less than or equal to 10 percent of the PBR level of the stock, all fisheries interacting with the stock will be placed in Category III (unless those fisheries interact with other stock(s) for which total annual mortality and serious injury is greater than 10 percent of PBR). Otherwise, these fisheries are subject to the next tier (Tier 2) of analysis to determine their classification.

Tier 2: Tier 2 considers fishery-specific mortality and serious injury for a particular stock.

Category I: Annual mortality and serious injury of a stock in a given fishery is greater than or equal to 50 percent of the PBR level (i.e., frequent incidental mortality and serious injury of marine mammals).

Category II: Annual mortality and serious injury of a stock in a given fishery is greater than 1 percent and less than 50 percent of the PBR level (i.e., occasional incidental mortality and serious injury of marine mammals).

Category III: Annual mortality and serious injury of a stock in a given fishery is less than or equal to 1 percent of the PBR level (i.e., a remote likelihood of or no known incidental mortality and serious injury of marine mammals).

Additional details regarding how the categories were determined are provided in the preamble to the final rule implementing section 118 of the MMPA (60 FR 45086; August 30, 1995).

Because fisheries are classified on a per-stock basis, a fishery may qualify as one category for one marine mammal stock and another category for a different marine mammal stock. A fishery is typically classified on the LOF at its highest level of classification (e.g., a fishery qualifying for Category III for one marine mammal stock and for Category II for another marine mammal stock will be listed under Category II). Stocks driving a fishery's classification are denoted with a superscript “1” in Tables 1 and 2.

Other Criteria That May Be Considered

The tier analysis requires a minimum amount of data, and NMFS does not have sufficient data to perform a tier analysis on certain fisheries. Therefore, NMFS has classified certain fisheries by analogy to other Category I or II fisheries that use similar fishing techniques or gear that are known to cause mortality or serious injury of marine mammals, or according to factors discussed in the final LOF for 1996 (60 FR 67063; December 28, 1995) and listed in the regulatory definition of a Category II fishery: “In the absence of reliable information indicating the frequency of incidental mortality and serious injury of marine mammals by a commercial fishery, NMFS will determine whether the incidental mortality or serious injury is “frequent,” “occasional,” or “remote” by evaluating other factors such as fishing techniques, gear used, methods used to deter marine mammals, target species, seasons and areas fished, qualitative data from logbooks or fishermen reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and the Atlantic Ocean, Gulf of Mexico, and Caribbean sections. To determine which species or stocks are included as incidentally killed or injured in a fishery, NMFS annually reviews the information presented in the current SARs and injury determination reports. The SARs are based upon the best available scientific information and provide the most current and inclusive information on each stock's PBR level and level of interaction with commercial fishing operations. The best available scientific information used in the SARs reviewed for the 2018 LOF generally summarizes data from 2010-2014. NMFS also reviews other sources of new information, including injury determination reports, bycatch estimation reports, observer data, logbook data, stranding data, disentanglement network data, fishermen self-reports (i.e., MMPA mortality/injury reports), and anecdotal reports from that time period. In some cases, more recent information may be available and used in the LOF, but in an effort to be consistent with the most recent SARs and across the LOF, NMFS typically restricts the analysis to data within the five-year time period summarized in the current SAR.

For fisheries with observer coverage, species or stocks are generally removed from the list of marine mammal species and/or stocks incidentally killed or injured if no interactions are documented in the five-year timeframe summarized in that year's LOF. For fisheries with no observer coverage and for observed fisheries with evidence indicating that undocumented interactions may be occurring (e.g., fishery has low observer coverage and stranding network data include evidence of fisheries interaction that cannot be attributed to a specific fishery) species and stocks may be retained for longer than five years. For these fisheries, NMFS will review the other sources of information listed above and use its discretion to decide when it is appropriate to remove a species or stock.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each Pacific and Alaska SAR includes an appendix with detailed descriptions of each Category I and II fishery on the LOF, including the observer coverage in those fisheries. For Atlantic fisheries, this information can be found in the LOF Fishery Fact Sheets. The SARs generally do not provide detailed information on observer coverage in Category III fisheries because, under the MMPA, Category III fisheries are generally not required to accommodate observers aboard vessels due to the remote likelihood of mortality and serious injury of marine mammals. Fishery information presented in the SARs' appendices and other resources referenced during the tier analysis may include: Level of observer coverage; target species; levels of fishing effort; spatial and temporal distribution of fishing effort; characteristics of fishing gear and operations; management and regulations; and interactions with marine mammals. Copies of the SARs are available on the NMFS Office of Protected Resources Web site at: http://www.nmfs.noaa.gov/pr/sars/. Information on observer coverage levels in Category I, II, and III fisheries can be found in the fishery fact sheets on the NMFS Office of Protected Resources' Web site: http://www.nmfs.noaa.gov/pr/interactions/fisheries/lof.html. Additional information on observer programs in commercial fisheries can be found on the NMFS National Observer Program's Web site: http://www.st.nmfs.gov/observer-home/.

How do I find out if a specific fishery is in Category I, II, or III?

The LOF includes three tables that list all U.S. commercial fisheries by Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable TRPs or take reduction teams (TRTs).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time Fishery Management Plans (FMPs) can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008). Additional information about HSFCA permits can be found at: http://www.nmfs.noaa.gov/ia/permits/highseas.html.

Where can I find specific information on fisheries listed on the LOF?

Starting with the 2010 LOF, NMFS developed summary documents, or fishery fact sheets, for each Category I and II fishery on the LOF. These fishery fact sheets provide the full history of each Category I and II fishery, including: When the fishery was added to the LOF; the basis for the fishery's initial classification; classification changes to the fishery; changes to the list of species and/or stocks incidentally killed or injured in the fishery; fishery gear and methods used; observer coverage levels; fishery management and regulation; and applicable TRPs or TRTs, if any. These fishery fact sheets are updated after each final LOF and can be found under “How Do I Find Out if a Specific Fishery is in Category I, II, or III?” on the NMFS Office of Protected Resources' Web site: http://www.nmfs.noaa.gov/pr/interactions/fisheries/lof.html, linked to the “List of Fisheries by Year” table. NMFS is developing similar fishery fact sheets for each Category III fishery on the LOF. However, due to the large number of Category III fisheries on the LOF and the lack of accessible and detailed information on many of these fisheries, the development of these fishery fact sheets is taking significant time to complete. NMFS began posting Category III fishery fact sheets online with the LOF for 2016.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my Marine Mammal Authorization Program (MMAP) authorization certificate?

NMFS has integrated the MMPA registration process, implemented through the Marine Mammal Authorization Program (MMAP), with existing state and Federal fishery license, registration, or permit systems for Category I and II fisheries on the LOF. Participants in these fisheries are automatically registered under the MMAP and are not required to submit registration or renewal materials.

In the Pacific Islands, West Coast, and Alaska regions, NMFS will issue vessel or gear owners an authorization certificate via U.S. mail or with their state or Federal license or permit at the time of issuance or renewal.

In the West Coast Region, authorization certificates may be obtained from the Web site http://www.westcoast.fisheries.noaa.gov/protected_species/marine_mammals/fisheries_interactions.html.

In the Alaska Region, authorization certificates may be obtained by visiting the Alaska Regional Office Web site https://alaskafisheries.noaa.gov/pr/mmapregistration.

In the Greater Atlantic Region, NMFS will issue vessel or gear owners an authorization certificate via U.S. mail automatically at the beginning of each calendar year. Certificates may also be obtained by visiting the Greater Atlantic Regional Office Web site http://www.greateratlantic.fisheries.noaa.gov/mmap/.

In the Southeast Region, NMFS will issue vessel or gear owners an authorization certificate via U.S. mail automatically at the beginning of each calendar year. Vessel or gear owners can receive additional authorization certificates by contacting the Southeast Regional Office at 727-209-5952 or by visiting the Southeast Regional Office Web site http://sero.nmfs.noaa.gov/protected_resources/marine_mammal_authorization_program/ and following the instructions for printing the certificate.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal license or permit systems distinguish between fisheries as classified by the LOF. Therefore, some vessel or gear owners in Category III fisheries may receive authorization certificates even though they are not required for Category III fisheries.

Individuals fishing in Category I and II fisheries for which no state or Federal license or permit is required must register with NMFS by contacting their appropriate Regional Office (see ADDRESSES).

How do I renew my registration under the MMAP?

In Alaska regional and Greater Atlantic regional fisheries, registrations of vessel or gear owners are automatically renewed and participants should receive an authorization certificate by January 1 of each new year. Certificates can also be obtained from the region's Web site. In Pacific Islands regional fisheries, vessel or gear owners receive an authorization certificate by January 1 for state fisheries and with their permit renewal for Federal fisheries. In West Coast regional fisheries, vessel or gear owners receive authorization either with each renewed state fishing license in Washington and Oregon, with their permit renewal for Federal fisheries, the timing of which varies based on target species, or via U.S. mail. Vessel or gear owners who participate in fisheries in these regions and have not received authorization certificates by January 1 or with renewed fishing licenses must contact the appropriate NMFS Regional Office (see FOR FURTHER INFORMATION CONTACT). In Southeast regional fisheries, vessel or gear owners' registrations are automatically renewed and participants will receive an authorization certificate via U.S. mail automatically at the beginning of each calendar year. Additional authorization certificates are available for printing on the Southeast Regional Office Web site http://sero.nmfs.noaa.gov/protected_resources/marine_mammal_authorization_program/.

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported.

Mortality/injury reporting forms and instructions for submitting forms to NMFS can be found at: http://www.nmfs.noaa.gov/pr/interactions/mmap/#form or by contacting the appropriate regional office (see FOR FURTHER INFORMATION CONTACT). Forms may be submitted via any of the following means: (1) Online using the electronic form; (2) emailed as an attachment to nmfs.mireport@noaa.gov; (3) faxed to the NMFS Office of Protected Resources at 301-713-0376; or (4) mailed to the NMFS Office of Protected Resources (mailing address is provided on the postage-paid form that can be printed from the web address listed above). Reporting requirements and procedures can be found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are so inadequate or unsafe that the health or safety of the observer or the safe operation of the vessel would be jeopardized; thereby authorizing the exemption of vessels too small to safely accommodate an observer from this requirement. However, U.S. Atlantic Ocean, Caribbean, or Gulf of Mexico large pelagics longline vessels operating in special areas designated by the Pelagic Longline Take Reduction Plan implementing regulations (50 CFR 229.36(d)) will not be exempted from observer requirements, regardless of their size. Observer requirements can be found in 50 CFR 229.7.

Am I required to comply with any marine mammal TRP regulations?

Table 4 provides a list of fisheries affected by TRPs and TRTs. TRP regulations can be found at 50 CFR 229.30 through 229.37. A description of each TRT and copies of each TRP can be found at: http://www.nmfs.noaa.gov/pr/interactions/trt/teams.html. It is the responsibility of fishery participants to comply with applicable take reduction regulations.

Where can I find more information about the LOF and the MMAP?

Information regarding the LOF and the MMAP, including: Registration procedures and forms; current and past LOFs; descriptions of each Category I and II fishery and some Category III fisheries; observer requirements; and marine mammal mortality/injury reporting forms and submittal procedures; may be obtained at: http://www.nmfs.noaa.gov/pr/interactions/fisheries/lof.html, or from any NMFS Regional Office at the addresses listed below:

NMFS, Greater Atlantic Regional Fisheries Office, 55 Great Republic Drive, Gloucester, MA 01930-2298, Attn: Allison Rosner;

NMFS, Southeast Region, 263 13th Avenue South, St. Petersburg, FL 33701, Attn: Jessica Powell;

NMFS, West Coast Region, Long Beach Office, 501 W. Ocean Blvd., Suite 4200, Long Beach, CA 90802-4213, Attn: Dan Lawson;

NMFS, Alaska Region, Protected Resources, P.O. Box 22668, 709 West 9th Street, Juneau, AK 99802, Attn: Suzie Teerlink; or

NMFS, Pacific Islands Regional Office, Protected Resources Division, 1845 Wasp Blvd., Building 176, Honolulu, HI 96818, Attn: Kevin Brindock.

Sources of Information Reviewed for the 2018 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fishermen self-reports, reports to the SRGs, conference papers, FMPs, and ESA documents.

The LOF for 2018 was based on, among other things, stranding data; fishermen self-reports; and SARs, primarily the 2016 SARs, which are based on data from 2010-2014. The SARs referenced in this LOF include: 2014 (80 FR 50599; August 20, 2015), 2015 (81 FR 38676; June 14, 2016), 2016 (82 FR 29039; June 27, 2017). The SARs are available at: http://www.nmfs.noaa.gov/pr/sars/.

Summary of Changes to the LOF for 2018

The following summarizes changes to the LOF for 2018, including the classification of fisheries, fisheries listed, the estimated number of vessels/persons in a particular fishery, and the species and/or stocks that are incidentally killed or injured in a particular fishery. NMFS re-classifies two fisheries in the LOF for 2018. Additionally, NMFS adds two fisheries to the LOF. NMFS makes changes to the estimated number of vessels/persons and list of species and/or stocks killed or injured in certain fisheries. The classifications and definitions of U.S. commercial fisheries for 2018 are identical to those provided in the LOF for 2017 with the changes discussed below. State and regional abbreviations used in the following paragraphs include: AK (Alaska), BSAI (Bering Sea and Aleutian Islands), CA (California), DE (Delaware), FL (Florida), GOA (Gulf of Alaska), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Classification of Fisheries

NMFS proposes to reclassify the CA thresher shark/swordfish drift gillnet(≥ 14 inch (in) mesh) fishery from Category I to Category II. The most recent mean annual take estimate for the CA/OR/WA stock of sperm whale by this fishery is 0.4 (Carretta, Moore, and Forney, 2017). This take estimate from the most recent five year period of available data (2011-2015) is 14 percent of the stock's PBR (2.7) (Carretta et al., 2015). The Tier II analysis is less than 50 percent but more than 1 percent of the stock's PBR; thus, we propose this fishery be reclassified as Category II.

NMFS proposes to reclassify the Category III AK Gulf of Alaska sablefish longline fishery to Category II based on interactions with sperm whales. Given the uncertainty in stock structure and abundance of sperm whales in the North Pacific and the best available data on North Pacific sperm whale mortality and serious injury (M/SI) in the AK Gulf of Alaska sablefish longline fishery, NMFS is proposing to reclassify the fishery based on the statutory definitions of the categories as outlined in section 118 of the MMPA. Given the current mean estimated annual M/SI of sperm whales in this fishery, NMFS cannot conclude the definition for Category III, “a remote likelihood of or no known incidental mortality or serious injury of marine mammals” is appropriate at this time. Instead, the best available data (i.e., mean annual M/SI estimate of 2.2 for this stock) support classifying the fishery as Category II, defined as “occasional incidental mortality and serious injury of marine mammals.”

Serious injuries to sperm whales in this fishery have been documented from 1997 to 2014. The current (2016) SAR uses data from 2010-2014 to provide an estimated mean annual M/SI rate for sperm whales. During this 5-year window, the AK Gulf of Alaska sablefish longline fishery has five observed serious injury reports that have each been prorated to 0.75 mortalities (NMFS, 2012). Dependent upon the availability of associated catch data used as a metric of effort, some of these observations were extrapolated to the portion of the fishery effort that was not observed. These extrapolations were not available to be incorporated into the SAR until 2016.

There were two observed serious injuries in 2012, and both were used to extrapolate to the unobserved effort resulting in an estimated total mortality of 3.4 in 2012. There were two observed serious injuries in 2013, one was extrapolated and one was not, for an estimated mortality of 6.95 (6.2 + 0.75) in 2013. There was one observed serious injury in 2014, which was not extrapolated, for an estimated mortality of 0.75 for 2014.

These values averaged over the 5-year data interval included in the 2016 SAR represent the reported mean estimated annual M/SI of 2.2 (CV = 0.63) of North Pacific sperm whales in the AK Gulf of Alaska sablefish longline fishery (Muto et al., 2017). This is an increased estimate from the previous (2015) SAR, which reported an estimated mean annual M/SI rate of 0.8 for the years 2009-2013. The increase can be attributed to the addition of one observed serious injury in 2014 and newly available estimates from three previously unextrapolated interactions.

The 2016 SAR for the North Pacific stock of sperm whale does not have a minimum abundance estimate (NMIN) or PBR for use in the LOF tier analysis. However, given the increase in estimated mean annual M/SI of sperm whales in the AK Gulf of Alaska sablefish longline fishery and in response to previous public comments (82 FR 3655; January 12, 2017 comment 6; 81 FR 40870; June 23, 2016 comment 4), NMFS has completed an assessment of this fishery using the best available data.

Using the PBR formula and the stock's recovery factor (FR) of 0.1, we can back-calculate the theoretical NMIN necessary for the AK Gulf of Alaska sablefish longline fishery to remain a Category III fishery. The AK Gulf of Alaska sablefish longline fishery is the only commercial fishery with documented M/SI of North Pacific sperm whales from 2010-2014, so both the Tier 1 and Tier 2 analyses evaluate the same M/SI estimate. In the Tier 1 analysis, for the mean estimated annual M/SI for all commercial fisheries (2.2) to be less than or equal to ten percent of PBR, the NMIN would need to exceed 11,000 whales. NMFS considers it unlikely that the stock exceeds 11,000 whales (see Rone et al., 2016 for portion of range estimate: N = 129 (CV = 0.44) in 2013 and N = 345 (CV = 0.43) in 2015); and, therefore, we proceed to a Tier 2 analysis. In the Tier 2 analysis, for the mean estimated M/SI from the AK Gulf of Alaska sablefish longline fishery (2.2) to be less than or equal to one percent of PBR (the threshold for Category III fisheries), the NMIN would need to exceed 110,000. NMFS considers it unlikely that this sperm whale stock exceeds 110,000 whales and; therefore, concludes the M/SI estimate (2.2) would likely exceed 1 percent of PBR if NMFS had sufficient abundance data to calculate PBR for this stock. Based on this result, combined with the statutory definitions of a Category II fishery under the MMPA, NMFS proposes to reclassify this fishery as Category II.

Addition of Fisheries

NMFS proposes to add the AK BSAI halibut longline fishery as a Category III fishery. This fishery is proposed for classification in Category III based on analogy to other halibut longline fisheries.

NMFS proposes to add the AK Gulf of Alaska sablefish pot fishery as a Category III fishery. NMFS recently authorized this fishery for 2017 for sablefish Individual Fishing Quota (IFQ) share holders. In this fishery, sablefish pots are set along a longline, a method previously authorized and implemented in Alaska in the BSAI. This fishery is proposed for classification in Category III by analogy to other sablefish pot fisheries in Alaska.

Removal of Fisheries

NMFS proposes to remove the Category III AK miscellaneous finfish set gillnet fishery from the LOF as miscellaneous finfish are not the target of set gillnet fishing methods.

NMFS proposes to remove the Category III AK miscellaneous finfish beach seine fishery from the LOF as miscellaneous finfish are not the target of beach seine fishing methods.

NMFS proposes to remove the Category III AK miscellaneous finfish purse seine fishery from the LOF as miscellaneous finfish are not the target of purse seine fishing methods.

NMFS proposes to remove the Category III AK octopus/squid purse seine fishery from the LOF as octopus and squid are not the target of purse seine fishing methods.

NMFS proposes to remove the Category III AK BSAI rockfish longline fishery from the LOF as rockfish are not the target of longline fishing methods in this region.

NMFS proposes to remove the Category III AK Gulf of Alaska rockfish longline fishery from the LOF as rockfish are not the target of longline fishing methods in this region.

NMFS proposes to remove the Category III AK halibut longline/set line (state and Federal waters) fishery from the LOF as this fishery is covered by AK Gulf of Alaska halibut longline and AK BSAI halibut longline fisheries on the LOF.

NMFS proposes to remove the Category III AK miscellaneous finfish otter/beam trawl fishery from the LOF as miscellaneous finfish are not the target of otter/beam trawl fishing methods.

NMFS proposes to remove the Category III AK statewide miscellaneous finfish pot fishery from the LOF as miscellaneous finfish are not the target of pot fishing methods.

NMFS proposes to remove the Category III AK snail pot fishery from the LOF as there are currently no participants.

NMFS proposes to remove the Category III AK octopus/squid handline fishery from the LOF as octopus and squid are not the target of handline fishing methods.

NMFS proposes to remove the Category III AK Abalone fishery from the LOF as there are currently no participants.

Fishery Name and Organizational Changes and Clarification

NMFS proposes to clarify that the Category II AK BSAI rockfish trawl fishery includes sablefish catches. As sablefish is not the target species in this area, sablefish will not be listed as a separate fishery but will be considered as incidental catch in the rockfish trawl fishery in this region.

NMFS proposes to add a superscript “1” to the CA/OR/WA stock of humpback whale to indicate it is driving the Category II classification of the CA spiny lobster fishery. In 2015, gear associated with this fishery entangled a humpback whale (Carretta, Muto et al., 2017).

NMFS proposes to rename the Category III AK salmon purse seine (excluding salmon purse seine fisheries listed elsewhere) fishery to AK salmon purse seine (Prince William Sound, Chignik, Alaska Peninsula) fishery. The proposed change is for clarity to directly indicate the areas included.

NMFS proposes to clarify that the Category III AK Gulf of Alaska rockfish trawl fishery includes targeted fishing for sablefish, which is included in the rockfish Fisheries Management Plan.

NMFS proposes to rename the Category III AK food/bait herring trawl fishery to AK Kodiak food/bait herring otter trawl fishery to clarify that this fishery only takes place in Kodiak and specifically uses otter trawl.

NMFS proposes to rename the Category III AK shrimp otter trawl and beam trawl (statewide and Cook Inlet) fishery to AK shrimp otter trawl and beam trawl fishery. There is no need to specifically mention the Cook Inlet area because this fishery is statewide.

NMFS proposes to rename the Category III AK State-managed waters of Cook Inlet, Kachemak Bay, Prince William Sound, Southeast AK groundfish trawl fishery to AK State-managed waters of Prince William Sound groundfish trawl fishery as the state banned trawling in the other areas currently specified.

NMFS proposes to combine the Category III AK Aleutian Islands sablefish pot fishery in the LOF with the Category III AK Bering Sea sablefish pot fishery for consistency with other regional designations in the LOF. The proposed change would combine these fisheries as AK BSAI sablefish pot fishery.

NMFS proposes to break the Category III AK miscellaneous finfish handline/hand troll and mechanical jig fishery into several fisheries by gear and geography for improved fishery categorization of potential impacts to marine mammals. For gear types, NMFS proposes to recognize jig and troll techniques separately to distinguish between fishing methods that may have different degrees of marine mammal interactions. NMFS proposes separating these into two regions, BSAI and Gulf of Alaska to better understand potential regional threats to marine mammals. NMFS will continue to consider the same group of target species together for the revised classification because the included groundfish species are often targeted simultaneously or only retained secondary to another primary target species in this group. NMFS considers “groundfish” to include, but not be limited to: Pacific cod, sablefish, ling cod, and various rockfish species. When reporting a marine mammal interaction, fishermen will be responsible to self-identify their fishery by area, target species, and gear type. The new Category III fishery names are: (1) AK BSAI groundfish jig, (2) AK BSAI groundfish troll, (3) AK Gulf of Alaska groundfish jig, (4) AK Gulf of Alaska groundfish troll.

NMFS proposes to rename the Category III AK North Pacific halibut handline/hand troll and mechanical jig fishery to AK halibut jig fishery for clarity and consistency. There is no directed troll or handline effort for halibut, but there is jig effort.

NMFS proposes to rename the Category III AK urchin and other fish/shellfish fishery to AK miscellaneous invertebrates hand pick fishery for clarity and consistency with the National Bycatch Report. This includes hand-picked fisheries for urchin, cucumbers, and bivalves.

NMFS makes an administrative change to the Category III Alaska scallop dredge fishery to be renamed AK scallop dredge for consistency.

Number of Vessels/Persons

NMFS proposes to update the estimated number of vessels/persons in the Pacific Ocean (Table 1) as follows:

Category | Fishery | Number of vessels/persons (2017 LOF) | Number of vessels/persons (2018 LOF)
I | HI deep-set longline | 139 | 143
II | HI shallow-set longline | 20 | 22
II | American Samoa longline | 20 | 18
III | AK Gulf of Alaska crab pot | 381 | 271
III | AK Gulf of Alaska Pacific cod pot | 128 | 116
III | AK Southeast Alaska crab pot | 41 | 375
III | AK Southeast Alaska shrimp pot | 269 | 210
III | AK shrimp pot, except Southeast | 236 | 141
III | AK octopus/squid pot | 26 | 15
III | AK herring spawn on kelp | 339 | 266
III | AK miscellaneous invertebrates handpick | 398 | 214
III | American Samoa bottomfish handline | 24 | 17
III | AK commercial passenger fishing vessel | 2,702 | 1,006

List of Species and/or Stocks Incidentally Killed or Injured in the Pacific Ocean

NMFS proposes to add the Central North Pacific stock of humpback whale to the list of stocks incidentally killed or injured in the Category I Hawaii deep-set longline fishery. A humpback was seriously injured in 2014 in this fishery.

NMFS proposes to add the Hawaii stock of Kogia spp. (Pygmy or dwarf sperm whale) to the list of stocks incidentally killed or injured in the Category I Hawaii deep-set longline fishery to keep parallel structure with Table 3.

NMFS proposes to add the CA/OR/WA stock of Dall's porpoise to the list of stocks incidentally killed or injured in the Category I CA thresher shark/swordfish drift gillnet (≥14 in mesh) fishery based on a 2014 observed entanglement (Carretta, Forney et al., 2017).

Commercial Fisheries in the Atlantic Ocean, Gulf of Mexico, and Caribbean

Number of Vessels/Persons

NMFS proposes updates to the estimated number of vessels/persons in the Atlantic Ocean, Gulf of Mexico, and Caribbean (Table 2) as follows:

Category | Fishery | Number of vessels/persons (2017 LOF) | Number of vessels/persons (2018 LOF)
I | Atlantic Ocean, Caribbean, Gulf of Mexico large pelagics longline | 420 | 280
II | Southeastern U.S. Atlantic shark gillnet | 30 | 23
III | Gulf of Maine, U.S. Mid-Atlantic tuna, shark, swordfish hook-and-line/harpoon | 428 | 3084
III | Southeastern U.S. Atlantic, Gulf of Mexico shark bottom longline/hook-and-line | <125 | 39
III | Southeastern U.S. Atlantic, Gulf of Mexico, and Caribbean pelagic hook-and-line/harpoon | 1,446 | 680

List of Species and/or Stocks Incidentally Killed or Injured in the Atlantic Ocean, Gulf of Mexico, and Caribbean

NMFS proposes to add the Northern Gulf of Mexico stock of rough-toothed dolphin to the list of stocks incidentally killed or injured in the Category I Atlantic Ocean, Caribbean, Gulf of Mexico large pelagics longline fishery. In 2014, two serious injuries of rough-toothed dolphins were observed in this fishery (Garrison and Stokes, 2017). The estimated annual combined mortality and serious injury, from 2010-2014, attributable to this fishery in the northern Gulf of Mexico was 0.8 (Hayes et al., 2017). Observer coverage from 2010-2014 for this fishery was 9.7, 10.1, 8.6, 14.1, and 12.3 percent, respectively.

NMFS proposes to remove the WNA stock of white-sided dolphin from the stocks listed as incidentally killed or injured in the Category II Mid-Atlantic mid-water trawl fishery. The last documented take of white-sided dolphin in this fishery occurred in 2009 (Waring et al., 2016). Since no additional takes have been documented since 2009, we propose to remove the stock. Observer coverage from 2010-2014 for this fishery was 25, 41, 21, 7, and 5 percent, respectively.

NMFS proposes to add the WNA stock of white-sided dolphin to the list of stocks incidentally killed or injured in the Category II Mid-Atlantic bottom trawl fishery. White-sided dolphin takes were documented in this fishery prior to 2008, but no takes were documented from 2008-2013 leading to the stock's removal from the list in the 2016 LOF (81 FR 20550; April 8, 2016). In 2014, 9.67 takes were estimated. The current mean combined annual mortality rate for 2010-2014 is now 1.9 animals per year (Hayes et al., 2017). Potential biological removal for this species is 304 (Hayes et al., 2017); therefore, the current annual mortality estimates (0.625 percent of PBR) will not drive the Category II classification of this fishery. Observer coverage from 2010-2014 for this fishery was 6, 8, 5, 6, and 8 percent, respectively.

NMFS proposes to add the WNA offshore stock of bottlenose dolphin to the list of stocks incidentally killed or injured in the Category III Gulf of Maine, U.S., Mid-Atlantic tuna, shark, swordfish hook-and-line/harpoon fishery. A fisherman self-reported one bottlenose dolphin injury that was determined to be a serious injury in 2010 (Waring et al., 2016).

NMFS proposes to add three stocks to the list of stocks incidentally killed or injured in the Atlantic Ocean, Gulf of Mexico, Caribbean commercial passenger fishing vessel fishery. The three stocks are: (1) WNA stock of short-finned pilot whale and (2) Barataria Bay estuarine system stock and (3) Mississippi Sound, Lake Borgne, Bay Boudreau stock of bottlenose dolphins.

In 2013, one short-finned pilot whale was self-reported by a charterboat fisherman (Hayes et al., 2017). The hooked and entangled animal was released alive; however, NMFS determined the injury to be serious (Maze-Foley and Garrison, 2016).

In 2011, one dead and one injured Barataria Bay estuarine system stock of Bottlenose dolphins were documented in hook-and-line gear. In 2013, two injured dolphins from this stock were documented in hook and line gear (Waring et al., 2016).

In 2011, three dead Mississippi Sound, Lake Borgne, Bay Boudreau stock of bottlenose dolphins were documented in hook-and-line gear. In 2012 and 2013, one death was documented each year associated with hook and line gear (Waring et al., 2016).

NMFS corrects three administrative errors in Table 2. Under stocks listed as incidentally killed or injured in the Atlantic Ocean, Caribbean, Gulf of Mexico large pelagic longline fishery, NMFS updates to stock name for Atlantic spotted dolphin from “GMX continental and oceanic” to “Northern GMX”. Second, in the Atlantic Ocean, Gulf of Mexico, Caribbean commercial passenger fishing vessel fishery, NMFS updates the stock name for bottlenose dolphin from “Southern SC/GA coastal” to “SC/GA coastal”. Last, NMFS removes the WNA stock of Risso's dolphin and white-sided dolphin from the stocks listed as incidentally injured or killed in the Category I Mid-Atlantic gillnet fishery. These stocks were removed in the 2016 LOF (80 FR 58427, September 29, 2015), but the change was not reflected on Table 2.

Commercial Fisheries on the High Seas

Removal of Fisheries

NMFS proposes to remove the Category II Atlantic highly migratory species drift gillnet fishery from the LOF as there are currently no participants.

Fishery Name and Organizational Changes and Clarification

NMFS proposes to designate the list of stocks incidentally killed in injured in a fishery from “undetermined” to “no information” for clarity that no data are available for interactions in that fishery.

Number of Vessels/Persons

NMFS proposes updates to the estimated number of vessels/persons on the High Seas (Table 3) as follows:

Category | Fishery | Number of vessels/persons (2017 LOF) | Number of vessels/persons (2018 LOF)
I | Atlantic highly migratory species longline | 86 | 79
I | Western Pacific pelagic longline (HI deep-set component) | 139 | 143
I | Pacific highly migratory species drift gillnet | 5 | 4
II | Atlantic highly migratory species trawl | 1 | 2
II | South Pacific tuna purse seine | 38 | 35
II | Western Pacific pelagic purse seine | 3 | 1
II | South Pacific albacore troll longline | 10 | 9
II | South Pacific tuna longline | 2 | 4
II | Western Pacific pelagic longline (HI shallow-set component) | 20 | 22
II | Atlantic highly migratory species handline/pole and line | 3 | 2
II | Pacific highly migratory species handline/pole and line | 46 | 42
II | South Pacific albacore troll handline/pole and line | 7 | 11
II | Western Pacific pelagic handline/pole and line | 2 | 5
II | Atlantic highly migratory species troll | 2 | 1
II | South Pacific albacore troll troll | 30 | 22
II | Western Pacific pelagic troll | 17 | 6
III | Pacific highly migratory species longline | 114 | 105
III | Pacific highly migratory species purse seine | 6 | 7
III | Northwest Atlantic trawl | 1 | 2
III | Pacific highly migratory species troll | 187 | 149

List of Species and/or Stocks Incidentally Killed or Injured on the High Seas

NMFS proposes to add the Hawaii stock of Kogia spp. (Pygmy or dwarf sperm whale) to the list of stocks incidentally killed or injured in the Category I Western Pacific Pelagic (HI deep-set component) longline fishery. In 2014, one serious injury was observed in this fishery (Carretta, Forney et al., 2017).

NMFS proposes to add the Central North Pacific stock of humpback whale to the list of stocks incidentally killed or injured in the Category I Western Pacific Pelagic (HI deep-set component) longline fishery to keep parallel structure with Table 1.

List of Fisheries

The following tables set forth the list of U.S. commercial fisheries according to their classification under section 118 of the MMPA. Table 1 lists commercial fisheries in the Pacific Ocean (including Alaska), Table 2 lists commercial fisheries in the Atlantic Ocean, Gulf of Mexico, and Caribbean, Table 3 lists commercial fisheries on the high seas, and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort. For example, the State of Hawaii does not issue fishery-specific licenses, and the number of participants reported in the LOF represents the number of commercial marine license holders who reported using a particular fishing gear type/method at least once in a given year, without considering how many times the gear was used. For these fisheries, effort by a single participant is counted the same whether the fisherman used the gear only once or every day. In the Mid-Atlantic and New England fisheries, the numbers represent the potential effort for each fishery, given the multiple gear types for which several state permits may allow. Changes made to Mid-Atlantic and New England fishery participants will not affect observer coverage or bycatch estimates, as observer coverage and bycatch estimates are based on vessel trip reports and landings data. Tables 1 and 2 serve to provide a description of the fishery's potential effort (state and Federal). If NMFS is able to extract more accurate information on the gear types used by state permit holders in the future, the numbers will be updated to reflect this change. For additional information on fishing effort in fisheries found on Table 1 or 2, contact the relevant regional office (contact information included above in SUPPLEMENTARY INFORMATION).

For high seas fisheries, Table 3 lists the number of valid HSFCA permits currently held. Although this likely overestimates the number of active participants in many of these fisheries, the number of valid HSFCA permits is the most reliable data on the potential effort in high seas fisheries at this time. As noted previously in this LOF, the number of HSFCA permits listed in Table 3 for the high seas components of fisheries that also operate within U.S. waters, does not necessarily represent additional effort that is not accounted for in Tables 1 and 2. Many vessels holding HSFCA permits also fish within U.S. waters and are included in the number of vessels and participants operating within those fisheries in Tables 1 and 2.

Tables 1, 2, and 3 also list the marine mammal species and/or stocks incidentally killed or injured (seriously or non-seriously) in each fishery based on SARs, injury determination reports, bycatch estimation reports, observer data, logbook data, stranding data, disentanglement network data, fishermen self-reports (i.e., MMPA reports), and anecdotal reports. The best available scientific information included in these reports is based on data through 2012. This list includes all species and/or stocks known to be killed or injured in a given fishery but also includes species and/or stocks for which there are anecdotal records of a mortality or injury. Additionally, species identified by logbook entries, stranding data, or fishermen self-reports (i.e., MMPA reports) may not be verified. In Tables 1 and 2, NMFS has designated those species/stocks driving a fishery's classification (i.e., the fishery is classified based on mortalities and serious injuries of a marine mammal stock that are greater than or equal to 50 percent (Category I), or greater than 1 percent and less than 50 percent (Category II), of a stock's PBR) by a “¹” after the stock's name.

In Tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063; December 28, 1995), and according to factors listed in the definition of a “Category II fishery” in 50 CFR 229.2 (i.e., fishing techniques, gear types, methods used to deter marine mammals, target species, seasons and areas fished, qualitative data from logbooks or fishermen reports, stranding data, and the species and distribution of marine mammals in the area). NMFS has designated those fisheries listed by analogy in Tables 1 and 2 by a “²” after the fishery's name.

There are several fisheries in Tables 1, 2, and 3 in which a portion of the fishing vessels cross the exclusive economic zone (EEZ) boundary and therefore operate both within U.S. waters and on the high seas. These fisheries, though listed separately between Table 1 or 2 and Table 3, are considered the same fisheries on either side of the EEZ boundary. NMFS has designated those fisheries in each table by a “*” after the fishery's name.

Table 1—List of Fisheries—Commercial Fisheries in the Pacific Ocean
Fishery description | Estimated number of vessels/ persons | Marine mammal species and/or stocks incidentally killed or injured
CATEGORY I
LONGLINE/SET LINE FISHERIES:
HI deep-set longline * ‸ | 143 | Bottlenose dolphin, HI Pelagic.
|  | False killer whale, MHI Insular.¹
|  | False killer whale, HI Pelagic.¹
|  | False killer whale, NWHI.
|  | Humpback whale. Central North Pacific.
|  | Kogia spp. (Pygmy or dwarf sperm whale), HI.
|  | Pygmy killer whale, HI.
|  | Risso's dolphin, HI.
|  | Short-finned pilot whale, HI.
|  | Sperm whale, HI.
|  | Striped dolphin, HI.
CATEGORY II
GILLNET FISHERIES:
CA thresher shark/swordfish drift gillnet (≥14 in mesh) * | 18 | Bottlenose dolphin, CA/OR/WA offshore.
|  | California sea lion, U.S.
|  | Dall's porpoise, CA/OR/WA.
|  | Humpback whale, CA/OR/WA.
|  | Long-beaked common dolphin, CA.
|  | Minke whale, CA/OR/WA.
|  | Northern elephant seal, CA breeding.
|  | Northern right-whale dolphin, CA/OR/WA.
|  | Pacific white-sided dolphin, CA/OR/WA.
|  | Risso's dolphin, CA/OR/WA.
|  | Short-beaked common dolphin, CA/OR/WA.
|  | Short-finned pilot whale, CA/OR/WA.
|  | Sperm Whale, CA/OR/WA.¹
CA halibut/white seabass and other species set gillnet (>3.5 in mesh) | 50 | California sea lion, U.S. Harbor seal, CA. Humpback whale, CA/OR/WA.¹ Long-beaked common dolphin, CA. Northern elephant seal, CA breeding. Sea otter, CA. Short-beaked common dolphin, CA/OR/WA.
CA yellowtail, barracuda, and white seabass drift gillnet (mesh size ≥3.5 in and <14 in) ² | 30 | California sea lion, U.S. Long-beaked common dolphin, CA. Short-beaked common dolphin, CA/OR/WA.
AK Bristol Bay salmon drift gillnet ² | 1,862 | Beluga whale, Bristol Bay.
|  | Gray whale, Eastern North Pacific.
|  | Harbor seal, Bering Sea.
|  | Northern fur seal, Eastern Pacific.
|  | Pacific white-sided dolphin, North Pacific.
|  | Spotted seal, AK.
|  | Steller sea lion, Western U.S.
AK Peninsula Bay salmon set gillnet ² | 979 | Beluga whale, Bristol Bay.
|  | Gray whale, Eastern North Pacific.
|  | Harbor seal, Bering Sea.
|  | Northern fur seal, Eastern Pacific.
|  | Spotted seal, AK.
AK Kodiak salmon set gillnet | 188 | Harbor porpoise, GOA.¹
|  | Harbor seal, GOA.
|  | Sea otter, Southwest AK.
|  | Steller sea lion, Western U.S.
AK Cook Inlet salmon set gillnet | 736 | Beluga whale, Cook Inlet.
|  | Dall's porpoise, AK.
|  | Harbor porpoise, GOA.
|  | Harbor seal, GOA.
|  | Humpback whale, Central North Pacific.¹
|  | Sea otter, South central AK.
|  | Steller sea lion, Western U.S.
AK Cook Inlet salmon drift gillnet | 569 | Beluga whale, Cook Inlet.
|  | Dall's porpoise, AK.
|  | Harbor porpoise, GOA.¹
|  | Harbor seal, GOA.
|  | Steller sea lion, Western U.S.
AK Peninsula/Aleutian Islands salmon drift gillnet.² | 162 | Dall's porpoise, AK.
|  | Harbor porpoise, GOA.
|  | Harbor seal, GOA.
|  | Northern fur seal, Eastern Pacific.
AK Peninsula/Aleutian Islands salmon set gillnet.² | 113 | Harbor porpoise, Bering Sea.
|  | Northern sea otter, Southwest AK.
|  | Steller sea lion, Western U.S.
AK Prince William Sound salmon drift gillnet | 537 | Dall's porpoise, AK.
|  | Harbor porpoise, GOA.¹
|  | Harbor seal, GOA.
|  | Northern fur seal, Eastern Pacific.
|  | Pacific white-sided dolphin, North Pacific.
|  | Sea otter, South central AK.
|  | Steller sea lion, Western U.S.¹
AK Southeast salmon drift gillnet | 474 | Dall's porpoise, AK.
|  | Harbor porpoise, Southeast AK.
|  | Harbor seal, Southeast AK.
|  | Humpback whale, Central North Pacific.¹
|  | Pacific white-sided dolphin, North Pacific.
|  | Steller sea lion, Eastern U.S.
AK Yakutat salmon set gillnet ² | 168 | Gray whale, Eastern North Pacific.
|  | Harbor Porpoise, Southeastern AK.
|  | Harbor seal, Southeast AK.
|  | Humpback whale, Central North Pacific (Southeast AK).
WA Puget Sound Region salmon drift gillnet (includes all inland waters south of U.S.-Canada border and eastward of the Bonilla-Tatoosh line-Treaty Indian fishing is excluded) | 210 | Dall's porpoise, CA/OR/WA. Harbor porpoise, inland WA.¹ Harbor seal, WA inland.
TRAWL FISHERIES:
AK Bering Sea, Aleutian Islands flatfish trawl | 32 | Bearded seal, AK.
|  | Gray whale, Eastern North Pacific.
|  | Harbor porpoise, Bering Sea.
|  | Harbor seal, Bering Sea.
|  | Humpback whale, Western North Pacific.¹
|  | Killer whale, AK resident.¹
|  | Killer whale, GOA, AI, BS transient.¹
|  | Northern fur seal, Eastern Pacific.
|  | Ringed seal, AK.
|  | Ribbon seal, AK.
|  | Spotted seal, AK.
|  | Steller sea lion, Western U.S.¹
|  | Walrus, AK.
AK Bering Sea, Aleutian Islands pollock trawl | 102 | Bearded Seal, AK.
|  | Dall's porpoise, AK.
|  | Harbor seal, AK.
|  | Humpback whale, Central North Pacific.
|  | Humpback whale, Western North Pacific.
|  | Northern fur seal, Eastern Pacific.
|  | Ribbon seal, AK.
|  | Ringed seal, AK.
|  | Spotted seal, AK.
|  | Steller sea lion, Western U.S.¹
AK Bering Sea, Aleutian Islands rockfish trawl | 17 | Killer whale, ENP AK resident.¹
|  | Killer whale, GOA, AI, BS transient.¹
POT, RING NET, AND TRAP FISHERIES:
CA spiny lobster | 194 | Bottlenose dolphin, CA/OR/WA offshore.
|  | Humpback whale, CA/OR/WA.¹
|  | Gray whale, Eastern North Pacific.
CA spot prawn pot | 25 | Gray whale, Eastern North Pacific.
|  | Humpback whale, CA/OR/WA.¹
CA Dungeness crab pot | 570 | Gray whale, Eastern North Pacific.
|  | Humpback whale, CA/OR/WA.¹
OR Dungeness crab pot | 433 | Gray whale, Eastern North Pacific.
|  | Humpback whale, CA/OR/WA.¹
WA/OR/CA sablefish pot | 309 | Humpback whale, CA/OR/WA.¹
WA coastal Dungeness crab pot | 228 | Gray whale, Eastern North Pacific.
|  | Humpback whale, CA/OR/WA.¹
LONGLINE/SET LINE FISHERIES:
AK Bering Sea, Aleutian Islands Pacific cod longline | 45 | Dall's Porpoise, AK.
|  | Killer whale, GOA, BSAI transient.¹
|  | Northern fur seal, Eastern Pacific.
|  | Ringed seal, AK.
AK Gulf of Alaska sablefish longline | 295 | Sperm whale, North Pacific.
HI shallow-set longline * ‸ | 22 | Blainville's beaked whale, HI.
|  | Bottlenose dolphin, HI Pelagic.
|  | False killer whale, HI Pelagic.¹
|  | Humpback whale, Central North Pacific.
|  | Risso's dolphin, HI.
|  | Rough-toothed dolphin, HI.
|  | Short-finned pilot whale, HI.
|  | Striped dolphin, HI.
American Samoa longline ² | 18 | Bottlenose dolphin, unknown.
|  | Cuvier's beaked whale, unknown.
|  | False killer whale, American Samoa.
|  | Rough-toothed dolphin, American Samoa.
|  | Short-finned pilot whale, unknown.
HI shortline ² | 9 | None documented.
CATEGORY III
GILLNET FISHERIES:
AK Kuskokwim, Yukon, Norton Sound, Kotzebue salmon gillnet | 1,778 | Harbor porpoise, Bering Sea.
AK Prince William Sound salmon set gillnet | 29 | Harbor seal, GOA. Sea otter, South central AK. Steller sea lion, Western U.S.
AK roe herring and food/bait herring gillnet | 920 | None documented.
CA set gillnet (mesh size <3.5 in) | 296 | None documented.
HI inshore gillnet | 36 | Bottlenose dolphin, HI. Spinner dolphin, HI.
WA Grays Harbor salmon drift gillnet (excluding treaty Tribal fishing) | 24 | Harbor seal, OR/WA coast.
WA/OR Mainstem Columbia River eulachon gillnet | 15 | None documented.
WA/OR lower Columbia River (includes tributaries) drift gillnet | 110 | California sea lion, U.S. Harbor seal, OR/WA coast.
WA Willapa Bay drift gillnet | 82 | Harbor seal, OR/WA coast. Northern elephant seal, CA breeding.
MISCELLANEOUS NET FISHERIES:
AK Cook Inlet salmon purse seine | 83 | Humpback whale, Central North Pacific.
AK Kodiak salmon purse seine | 376 | Humpback whale, Central North Pacific.
AK Southeast salmon purse seine | 315 | None documented in the most recent five years of data.
AK Metlakatla salmon purse seine | 10 | None documented.
AK roe herring and food/bait herring beach seine | 10 | None documented.
AK roe herring and food/bait herring purse seine | 356 | None documented.
AK salmon beach seine | 31 | None documented.
AK salmon purse seine (Prince William Sound, Chignik, Alaska Peninsula) | 936 | Harbor seal, GOA. Harbor seal, Prince William Sound.
WA/OR sardine purse seine | 42 | None documented.
CA anchovy, mackerel, sardine purse seine | 65 | California sea lion, U.S. Harbor seal, CA.
CA squid purse seine | 80 | Long-beaked common dolphin, CA. Short-beaked common dolphin, CA/OR/WA.
CA tuna purse seine * | 10 | None documented.
WA/OR Lower Columbia River salmon seine | 10 | None documented.
WA/OR herring, smelt, squid purse seine or lampara | 130 | None documented.
WA salmon purse seine | 75 | None documented.
WA salmon reef net | 11 | None documented.
HI lift net | 17 | None documented.
HI inshore purse seine | <3 | None documented.
HI throw net, cast net | 23 | None documented.
HI seine net | 24 | None documented.
DIP NET FISHERIES:
CA squid dip net | 115 | None documented.
MARINE AQUACULTURE FISHERIES:
CA marine shellfish aquaculture | unknown | None documented.
CA salmon enhancement rearing pen | >1 | None documented.
CA white seabass enhancement net pens | 13 | California sea lion, U.S.
HI offshore pen culture | 2 | None documented.
WA salmon net pens | 14 | California sea lion, U.S. Harbor seal, WA inland waters.
WA/OR shellfish aquaculture | 23 | None documented.
TROLL FISHERIES:
WA/OR/CA albacore surface hook and line/troll | 705 | None documented.
CA halibut hook and line/handline | unknown | None documented.
CA white seabass hook and line/handline | unknown | None documented.
AK Bering Sea, Aleutian Islands groundfish troll | unknown | None documented.
AK Gulf of Alaska groundfish troll | unknown | None documented.
AK salmon troll | 1,908 | Steller sea lion, Eastern U.S. Steller sea lion, Western U.S.
American Samoa tuna troll | 13 | None documented.
CA/OR/WA salmon troll | 4,300 | None documented.
HI troll | 2,117 | Pantropical spotted dolphin, HI.
HI rod and reel | 322 | None documented.
Commonwealth of the Northern Mariana Islands tuna troll | 40 | None documented.
Guam tuna troll | 432 | None documented.
LONGLINE/SET LINE FISHERIES:
AK Bering Sea, Aleutian Islands Greenland turbot longline | 4 | Killer whale, AK resident.
AK Bering Sea, Aleutian Islands sablefish longline | 22 | None documented.
AK Bering Sea, Aleutian Islands halibut longline | 127 | None documented.
AK Gulf of Alaska halibut longline | 855 | None documented.
AK Gulf of Alaska Pacific cod longline | 92 | Steller sea lion, Western U.S.
AK octopus/squid longline | 3 | None documented.
AK state-managed waters longline/setline (including sablefish, rockfish, lingcod, and miscellaneous finfish) | 464 | None documented.
WA/OR/CA groundfish, bottomfish longline/set line | 367 | Bottlenose dolphin, CA/OR/WA offshore.
WA/OR Pacific halibut longline | 350 | None documented.
CA pelagic longline | 1 | None documented in the most recent five years of data.
HI kaka line | 15 | None documented.
HI vertical line | 3 | None documented.
TRAWL FISHERIES:
AK Bering Sea, Aleutian Islands Atka mackerel trawl | 13 | Ribbon seal, AK. Steller sea lion, Western U.S.
AK Bering Sea, Aleutian Islands Pacific cod trawl | 72 | Ringed seal, AK. Steller sea lion, Western U.S.
AK Gulf of Alaska flatfish trawl | 36 | Northern elephant seal, North Pacific.
AK Gulf of Alaska Pacific cod trawl | 55 | Steller sea lion, Western U.S.
AK Gulf of Alaska pollock trawl | 67 | Dall's porpoise, AK.
|  | Fin whale, Northeast Pacific.
|  | Northern elephant seal, North Pacific.
|  | Steller sea lion, Western U.S.
AK Gulf of Alaska rockfish trawl | 43 | None documented.
AK Kodiak food/bait herring otter trawl | 4 | None documented.
AK shrimp otter trawl and beam trawl | 38 | None documented.
AK state-managed waters of Prince William Sound groundfish trawl | 2 | None documented.
CA halibut bottom trawl | 47 | California sea lion, U.S.
|  | Harbor porpoise, unknown.
|  | Harbor seal, unknown.
|  | Northern elephant seal, CA breeding.
|  | Steller sea lion, unknown.
CA sea cucumber trawl | 16 | None documented.
WA/OR/CA shrimp trawl | 300 | None documented.
WA/OR/CA groundfish trawl | 160-180 | California sea lion, U.S.
|  | Dall's porpoise, CA/OR/WA.
|  | Harbor seal, OR/WA coast.
|  | Northern fur seal, Eastern Pacific.
|  | Pacific white-sided dolphin, CA/OR/WA.
|  | Steller sea lion, Eastern U.S.
POT, RING NET, AND TRAP FISHERIES:
AK Bering Sea, Aleutian Islands sablefish pot | 6 | None documented.
AK Bering Sea, Aleutian Islands Pacific cod pot | 59 | None documented.
AK Bering Sea, Aleutian Islands crab pot | 540 | Gray whale, Eastern North Pacific.
AK Gulf of Alaska crab pot | 271 | None documented.
AK Gulf of Alaska Pacific cod pot | 116 | Harbor seal, GOA.
AK Gulf of Alaska sablefish pot | 248 | None documented.
AK Southeast Alaska crab pot | 375 | Humpback whale, Central North Pacific (Southeast AK).
AK Southeast Alaska shrimp pot | 210 | Humpback whale, Central North Pacific (Southeast AK).
AK shrimp pot, except Southeast | 141 | None documented.
AK octopus/squid pot | 15 | None documented.
CA/OR coonstripe shrimp pot | 36 | Gray whale, Eastern North Pacific. Harbor seal, CA.
CA rock crab pot | 124 | Gray whale, Eastern North Pacific. Harbor seal, CA.
WA/OR/CA hagfish pot | 54 | None documented.
WA/OR shrimp pot/trap | 254 | None documented.
WA Puget Sound Dungeness crab pot/trap | 249 | None documented.
HI crab trap | 5 | Humpback whale, Central North Pacific.
HI fish trap | 9 | None documented.
HI lobster trap | <3 | None documented in recent years.
HI shrimp trap | 10 | None documented.
HI crab net | 4 | None documented.
HI Kona crab loop net | 33 | None documented.
HOOK-AND-LINE, HANDLINE, AND JIG FISHERIES:
AK Bering Sea, Aleutian Islands groundfish jig | 2 | None documented.
AK Gulf of Alaska groundfish jig | 214 | Fin whale, Northeast Pacific.
AK halibut jig | 71 | None documented.
American Samoa bottomfish | 17 | None documented.
Commonwealth of the Northern Mariana Islands bottomfish | 28 | None documented.
Guam bottomfish | >300 | None documented.
HI aku boat, pole, and line | <3 | None documented.
HI bottomfish handline | 578 | None documented in recent years.
HI inshore handline | 357 | None documented.
HI pelagic handline | 534 | None documented.
WA groundfish, bottomfish jig | 679 | None documented.
Western Pacific squid jig | 0 | None documented.
HARPOON FISHERIES:
CA swordfish harpoon | 6 | None documented.
POUND NET/WEIR FISHERIES:
AK herring spawn on kelp pound net | 291 | None documented.
AK Southeast herring roe/food/bait pound net | 2 | None documented.
HI bullpen trap | 3 | None documented.
BAIT PENS:
WA/OR/CA bait pens | 13 | California sea lion, U.S.
DREDGE FISHERIES:
AK scallop dredge | 108 (5 AK) | None documented.
DIVE, HAND/MECHANICAL COLLECTION FISHERIES:
AK clam | 130 | None documented.
AK Dungeness crab | 2 | None documented.
AK herring spawn on kelp | 266 | None documented.
AK miscellaneous invertebrates handpick | 214 | None documented.
HI black coral diving | <3 | None documented.
HI fish pond | 5 | None documented.
HI handpick | 46 | None documented.
HI lobster diving | 19 | None documented.
HI spearfishing | 163 | None documented.
WA/CA kelp | 4 | None documented.
WA/OR bait shrimp, clam hand, dive, or mechanical collection | 201 | None documented.
OR/CA sea urchin, sea cucumber hand, dive, or mechanical collection | 10 | None documented.
COMMERCIAL PASSENGER FISHING VESSEL (CHARTER BOAT) FISHERIES:
AK/WA/OR/CA commercial passenger fishing vessel | >7,000 (1,006 AK) | Killer whale, unknown. Steller sea lion, Eastern U.S. Steller sea lion, Western U.S.
LIVE FINFISH/SHELLFISH FISHERIES:
CA nearshore finfish live trap/hook-and-line | 93 | None documented.
HI aquarium collecting | 90 | None documented.
List of Abbreviations and Symbols Used in Table 1: AI—Aleutian Islands; AK—Alaska; BS—Bering Sea; CA—California; ENP—Eastern North Pacific; GOA—Gulf of Alaska; HI—Hawaii; MHI—Main Hawaiian Islands; OR—Oregon; WA—Washington; ¹ Fishery classified based on mortalities and serious injuries of this stock, which are greater than or equal to 50 percent (Category I) or greater than 1 percent and less than 50 percent (Category II) of the stock's PBR; ² Fishery classified by analogy; * Fishery has an associated high seas component listed in Table 3; ‸ The list of marine mammal species and/or stocks killed or injured in this fishery is identical to the list of species and/or stocks killed or injured in high seas component of the fishery, minus species and/or stocks that have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/ persons | Marine mammal species and/or stocks incidentally killed or injured
CATEGORY I
GILLNET FISHERIES:
Mid-Atlantic gillnet | 3,950 | Bottlenose dolphin, Northern Migratory coastal.¹
|  | Bottlenose dolphin, Southern Migratory coastal.¹
|  | Bottlenose dolphin, Northern NC estuarine system.¹
|  | Bottlenose dolphin, Southern NC estuarine system.¹
|  | Bottlenose dolphin, WNA offshore.
|  | Common dolphin, WNA.
|  | Gray seal, WNA.
|  | Harbor porpoise, GME/BF.
|  | Harbor seal, WNA.
|  | Harp seal, WNA.
|  | Humpback whale, Gulf of Maine.
|  | Minke whale, Canadian east coast.
Northeast sink gillnet | 4,332 | Bottlenose dolphin, WNA offshore.
|  | Common dolphin, WNA.
|  | Fin whale, WNA.
|  | Gray seal, WNA.
|  | Harbor porpoise, GME/BF.¹
|  | Harbor seal, WNA.
|  | Harp seal, WNA.
|  | Hooded seal, WNA.
|  | Humpback whale, Gulf of Maine.
|  | Long-finned pilot whale, WNA.
|  | Minke whale, Canadian east coast.
|  | North Atlantic right whale, WNA.
|  | Risso's dolphin, WNA.
|  | White-sided dolphin, WNA.
TRAP/POT FISHERIES:
Northeast/Mid-Atlantic American lobster trap/pot | 10,163 | Humpback whale, Gulf of Maine. Minke whale, Canadian east coast. North Atlantic right whale, WNA.¹
LONGLINE FISHERIES:
Atlantic Ocean, Caribbean, Gulf of Mexico large pelagics longline * | 280 | Atlantic spotted dolphin, Northern GMX. Bottlenose dolphin, Northern GMX oceanic. Bottlenose dolphin, WNA offshore. Common dolphin, WNA. Cuvier's beaked whale, WNA. False killer whale, WNA. Harbor porpoise, GME, BF. Kogia spp. (Pygmy or dwarf sperm whale), WNA. Long-finned pilot whale, WNA.¹ Mesoplodon beaked whale, WNA. Minke whale, Canadian East coast. Pantropical spotted dolphin, Northern GMX. Pygmy sperm whale, GMX. Risso's dolphin, Northern GMX. Risso's dolphin, WNA. Rough-toothed dolphin, Northern GMX. Short-finned pilot whale, Northern GMX. Short-finned pilot whale, WNA.¹
CATEGORY II
GILLNET FISHERIES:
Chesapeake Bay inshore gillnet ² | 248 | Bottlenose dolphin, unknown (Northern migratory coastal or Southern migratory coastal).
Gulf of Mexico gillnet ² | 248 | Bottlenose dolphin, GMX bay, sound, and estuarine. Bottlenose dolphin, Northern GMX coastal. Bottlenose dolphin, Western GMX coastal.
NC inshore gillnet | 2,850 | Bottlenose dolphin, Northern NC estuarine system.¹ Bottlenose dolphin, Southern NC estuarine system.¹
Northeast anchored float gillnet ² | 852 | Harbor seal, WNA. Humpback whale, Gulf of Maine. White-sided dolphin, WNA.
Northeast drift gillnet ² | 1,036 | None documented.
Southeast Atlantic gillnet ² | 273 | Bottlenose dolphin, Central FL coastal.
|  | Bottlenose dolphin, Northern FL coastal.
|  | Bottlenose dolphin, SC/GA coastal.
|  | Bottlenose dolphin, Southern migratory coastal.
Southeastern U.S. Atlantic shark gillnet | 23 | Bottlenose dolphin, unknown (Central FL, Northern FL, SC/GA coastal, or Southern migratory coastal). North Atlantic right whale, WNA.
TRAWL FISHERIES:
Mid-Atlantic mid-water trawl (including pair trawl) | 382 | Gray seal, WNA. Harbor seal, WNA.
Mid-Atlantic bottom trawl | 785 | Bottlenose dolphin, WNA offshore. Common dolphin, WNA.¹
|  | Gray seal, WNA.
|  | Harbor seal, WNA.
|  | Risso's dolphin, WNA.¹
|  | White-sided dolphin, WNA.
Northeast mid-water trawl (including pair trawl) | 1,087 | Common dolphin, WNA.
|  | Gray seal, WNA.
|  | Harbor seal, WNA.
|  | Long-finned pilot whale, WNA.¹
|  | Minke whale, Canadian East Coast.
Northeast bottom trawl | 2,238 | Bottlenose dolphin, WNA offshore.
|  | Common dolphin, WNA.
|  | Gray seal, WNA.
|  | Harbor porpoise, GME/BF.
|  | Harbor seal, WNA.
|  | Harp seal, WNA.
|  | Long-finned pilot whale, WNA.
|  | Risso's dolphin, WNA.
|  | White-sided dolphin, WNA.¹
Southeastern U.S. Atlantic, Gulf of Mexico shrimp trawl | 4,950 | Atlantic spotted dolphin, GMX continental and oceanic.
|  | Bottlenose dolphin, Charleston estuarine system.
|  | Bottlenose dolphin, Eastern GMX coastal.¹
|  | Bottlenose dolphin, GMX bay, sound, estuarine.¹
|  | Bottlenose dolphin, GMX continental shelf.
|  | Bottlenose dolphin, Northern GMX coastal.
|  | Bottlenose dolphin, SC/GA coastal.¹
|  | Bottlenose dolphin, Southern migratory coastal.
|  | Bottlenose dolphin, Western GMX coastal.¹
|  | West Indian manatee, Florida.
TRAP/POT FISHERIES:
Southeastern U.S. Atlantic, Gulf of Mexico stone crab trap/pot ² | 1,384 | Bottlenose dolphin, Biscayne Bay estuarine. Bottlenose dolphin, Central FL coastal. Bottlenose dolphin, Eastern GMX coastal. Bottlenose dolphin, FL Bay. Bottlenose dolphin, GMX bay, sound, estuarine (FL west coast portion). Bottlenose dolphin, Indian River Lagoon estuarine system. Bottlenose dolphin, Jacksonville estuarine system. Bottlenose dolphin, Northern GMX coastal.
Atlantic mixed species trap/pot ² | 3,436 | Fin whale, WNA. Humpback whale, Gulf of Maine.
Atlantic blue crab trap/pot | 7,714 | Bottlenose dolphin, Central FL coastal.
|  | Bottlenose dolphin, Central GA estuarine system.
|  | Bottlenose dolphin, Charleston estuarine system.¹
|  | Bottlenose dolphin, Indian River Lagoon estuarine system.
|  | Bottlenose dolphin, Jacksonville estuarine system.
|  | Bottlenose dolphin, Northern FL coastal.¹
|  | Bottlenose dolphin, Northern GA/Southern SC estuarine system.
|  | Bottlenose dolphin, Northern Migratory coastal.
|  | Bottlenose dolphin, Northern NC estuarine system.¹
|  | Bottlenose dolphin, Northern SC estuarine system.
|  | Bottlenose dolphin, SC/GA coastal.
|  | Bottlenose dolphin, Southern GA estuarine system.
|  | Bottlenose dolphin, Southern Migratory coastal.
|  | Bottlenose dolphin, Southern NC estuarine system.
|  | West Indian manatee, FL.
PURSE SEINE FISHERIES:
Gulf of Mexico menhaden purse seine | 40-42 | Bottlenose dolphin, GMX bay, sound, estuarine.
|  | Bottlenose dolphin, Mississippi Sound, Lake Borgne, Bay Boudreau.
|  | Bottlenose dolphin, Northern GMX coastal.¹
|  | Bottlenose dolphin, Western GMX coastal.¹
Mid-Atlantic menhaden purse seine ² | 19 | Bottlenose dolphin, Northern Migratory coastal. Bottlenose dolphin, Southern Migratory coastal.
HAUL/BEACH SEINE FISHERIES:
Mid-Atlantic haul/beach seine | 359 | Bottlenose dolphin, Northern Migratory coastal.¹ Bottlenose dolphin, Northern NC estuarine system.¹ Bottlenose dolphin, Southern Migratory coastal.¹
NC long haul seine | 30 | Bottlenose dolphin, Northern NC estuarine system.¹ Bottlenose dolphin, Southern NC estuarine system.
STOP NET FISHERIES:
NC roe mullet stop net | 1 | Bottlenose dolphin, Northern NC estuarine system. Bottlenose dolphin, unknown (Southern migratory coastal or Southern NC estuarine system).
POUND NET FISHERIES:
VA pound net | 26 | Bottlenose dolphin, Northern migratory coastal. Bottlenose dolphin, Northern NC estuarine system. Bottlenose dolphin, Southern Migratory coastal.¹
CATEGORY III
GILLNET FISHERIES:
Caribbean gillnet | >991 | None documented in the most recent five years of data.
DE River inshore gillnet | unknown | None documented in the most recent five years of data.
Long Island Sound inshore gillnet | unknown | None documented in the most recent five years of data.
RI, southern MA (to Monomoy Island), and NY Bight (Raritan and Lower NY Bays) inshore gillnet | unknown | None documented in the most recent five years of data.
Southeast Atlantic inshore gillnet | unknown | Bottlenose dolphin, Northern SC estuarine system.
TRAWL FISHERIES:
Atlantic shellfish bottom trawl | >58 | None documented.
Gulf of Mexico butterfish trawl | 2 | Bottlenose dolphin, Northern GMX oceanic. Bottlenose dolphin, Northern GMX continental shelf.
Gulf of Mexico mixed species trawl | 20 | None documented.
GA cannonball jellyfish trawl | 1 | Bottlenose dolphin, SC/GA coastal.
MARINE AQUACULTURE FISHERIES:
Finfish aquaculture | 48 | Harbor seal, WNA.
Shellfish aquaculture | unknown | None documented.
PURSE SEINE FISHERIES:
Gulf of Maine Atlantic herring purse seine | >7 | Harbor seal, WNA. Gray seal, WNA.
Gulf of Maine menhaden purse seine | >2 | None documented.
FL West Coast sardine purse seine | 10 | Bottlenose dolphin, Eastern GMX coastal.
U.S. Atlantic tuna purse seine * | 5 | Long-finned pilot whale, WNA. Short-finned pilot whale, WNA.
LONGLINE/HOOK-AND-LINE FISHERIES:
Northeast/Mid-Atlantic bottom longline/hook-and-line | >1,207 | None documented.
Gulf of Maine, U.S. Mid-Atlantic tuna, shark, swordfish hook-and-line/harpoon | 3,084 | Bottlenose dolphin, WNA offshore. Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | 39 | Bottlenose dolphin, Eastern GMX coastal. Bottlenose dolphin, Northern GMX continental shelf.
Southeastern U.S. Atlantic, Gulf of Mexico, and Caribbean pelagic hook-and-line/harpoon | 680 | None documented.
U.S. Atlantic, Gulf of Mexico trotline | unknown | None documented.
TRAP/POT FISHERIES:
Caribbean mixed species trap/pot | >501 | None documented.
Caribbean spiny lobster trap/pot | >197 | None documented.
FL spiny lobster trap/pot | 1,268 | Bottlenose dolphin, Biscayne Bay estuarine Bottlenose dolphin, Central FL coastal.
|  | Bottlenose dolphin, Eastern GMX coastal.
|  | Bottlenose dolphin, FL Bay estuarine.
|  | Bottlenose dolphin, FL Keys.
Gulf of Mexico blue crab trap/pot | 4,113 | Bottlenose dolphin, Barataria Bay.
|  | Bottlenose dolphin, Eastern GMX coastal.
|  | Bottlenose dolphin, GMX bay, sound, estuarine.
|  | Bottlenose dolphin, Mississippi Sound, Lake Borgne, Bay Boudreau.
|  | Bottlenose dolphin, Northern GMX coastal.
|  | Bottlenose dolphin, Western GMX coastal.
|  | West Indian manatee, FL.
Gulf of Mexico mixed species trap/pot | unknown | None documented.
Southeastern U.S. Atlantic, Gulf of Mexico golden crab trap/pot | 10 | None documented.
U.S. Mid-Atlantic eel trap/pot | unknown | None documented.
STOP SEINE/WEIR/POUND NET/FLOATING TRAP/FYKE NET FISHERIES:
Gulf of Maine herring and Atlantic mackerel stop seine/weir | >1 | Harbor porpoise, GME/BF.
|  | Harbor seal, WNA.
|  | Minke whale, Canadian east coast.
|  | Atlantic white-sided dolphin, WNA.
U.S. Mid-Atlantic crab stop seine/weir | 2,600 | None documented.
U.S. Mid-Atlantic mixed species stop seine/weir/pound net (except the NC roe mullet stop net) | unknown | Bottlenose dolphin, Northern NC estuarine system.
RI floating trap | 9 | None documented.
Northeast and Mid-Atlantic fyke net | unknown | None documented.
DREDGE FISHERIES:
Gulf of Maine sea urchin dredge | unknown | None documented.
Gulf of Maine mussel dredge | unknown | None documented.
Gulf of Maine, U.S. Mid-Atlantic sea scallop dredge | >403 | None documented.
Mid-Atlantic blue crab dredge | unknown | None documented.
Mid-Atlantic soft-shell clam dredge | unknown | None documented.
Mid-Atlantic whelk dredge | unknown | None documented.
U.S. Mid-Atlantic/Gulf of Mexico oyster dredge | 7,000 | None documented.
New England and Mid-Atlantic offshore surf clam/quahog dredge | unknown | None documented.
HAUL/BEACH SEINE FISHERIES:
Caribbean haul/beach seine | 15 | None documented in the most recent five years of data.
Gulf of Mexico haul/beach seine | unknown | None documented.
Southeastern U.S. Atlantic haul/beach seine | 25 | None documented.
DIVE, HAND/MECHANICAL COLLECTION FISHERIES:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
COMMERCIAL PASSENGER FISHING VESSEL (CHARTER BOAT) FISHERIES:
Atlantic Ocean, Gulf of Mexico, Caribbean commercial passenger fishing vessel | 4,000 | Bottlenose dolphin, Barataria Bay estuarine system. Bottlenose dolphin, Biscayne Bay estuarine. Bottlenose dolphin, Central FL coastal. Bottlenose dolphin, Choctawhatchee Bay. Bottlenose dolphin, Eastern GMX coastal. Bottlenose dolphin, FL Bay. Bottlenose dolphin, GMX bay, sound, estuarine. Bottlenose dolphin, Indian River Lagoon estuarine system. Bottlenose dolphin, Jacksonville estuarine system. Bottlenose dolphin, Mississippi Sound, Lake Borgne, Bay Boudreau. Bottlenose dolphin, Northern FL coastal. Bottlenose dolphin, Northern GA/Southern SC estuarine. Bottlenose dolphin, Northern GMX coastal. Bottlenose dolphin, Northern migratory coastal. Bottlenose dolphin, Northern NC estuarine. Bottlenose dolphin, Southern migratory coastal. Bottlenose dolphin, Southern NC estuarine system. Bottlenose dolphin, SC/GA coastal. Bottlenose dolphin, Western GMX coastal. Short-finned pilot whale, WNA.
List of Abbreviations and Symbols Used in Table 2: DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic; ¹ Fishery classified based on mortalities and serious injuries of this stock, which are greater than or equal to 50 percent (Category I) or greater than 1 percent and less than 50 percent (Category II) of the stock's PBR; ² Fishery classified by analogy; * Fishery has an associated high seas component listed in Table 3.

Table 3—List of Fisheries—Commercial Fisheries on the High Seas
Fishery description | Number of HSFCA permits | Marine mammal species and/or stocks incidentally killed or injured
Category I
LONGLINE FISHERIES:
Atlantic Highly Migratory Species * | 79 | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Killer whale, GMX oceanic.
|  | Kogia spp. whale (Pygmy or dwarf sperm whale), WNA.
|  | Long-finned pilot whale, WNA.
|  | Mesoplodon beaked whale, WNA.
|  | Minke whale, Canadian East coast.
|  | Pantropical spotted dolphin, WNA.
|  | Risso's dolphin, GMX.
|  | Risso's dolphin, WNA.
|  | Short-finned pilot whale, WNA.
Western Pacific Pelagic (HI Deep-set component) * ‸ | 143 | Bottlenose dolphin, HI Pelagic.
|  | False killer whale, HI Pelagic.
|  | Humpback whale, Central North Pacific.
|  | Kogia spp. (Pygmy or dwarf sperm whale), HI.
|  | Pygmy killer whale, HI.
|  | Risso's dolphin, HI.
|  | Short-finned pilot whale, HI.
|  | Sperm whale, HI.
|  | Striped dolphin, HI.
Category II
DRIFT GILLNET FISHERIES:
Pacific Highly Migratory Species * ‸ | 4 | Long-beaked common dolphin, CA.
|  | Humpback whale, CA/OR/WA.
|  | Northern right-whale dolphin, CA/OR/WA.
|  | Pacific white-sided dolphin, CA/OR/WA.
|  | Risso's dolphin, CA/OR/WA.
|  | Short-beaked common dolphin, CA/OR/WA.
TRAWL FISHERIES:
Atlantic Highly Migratory Species ** | 2 | No information.
CCAMLR | 0 | Antarctic fur seal.
PURSE SEINE FISHERIES:
South Pacific Tuna Fisheries | 35 | No information.
Western Pacific Pelagic | 1 | No information.
LONGLINE FISHERIES:
CCAMLR | 0 | None documented.
South Pacific Albacore Troll | 9 | No information.
South Pacific Tuna Fisheries ** | 4 | No information.
Western Pacific Pelagic (HI Shallow-set component) * ‸ | 22 | Blainville's beaked whale, HI.
|  | Bottlenose dolphin, HI Pelagic.
|  | False killer whale, HI Pelagic.
|  | Humpback whale, Central North Pacific.
|  | Northern elephant seal, CA breeding.
|  | Risso's dolphin, HI.
|  | Rough-toothed dolphin, HI.
|  | Short-beaked common dolphin, CA/OR/WA.
|  | Short-finned pilot whale, HI.
|  | Striped dolphin, HI.
HANDLINE/POLE AND LINE FISHERIES:
Atlantic Highly Migratory Species | 2 | No information.
Pacific Highly Migratory Species | 42 | No information.
South Pacific Albacore Troll | 11 | No information.
Western Pacific Pelagic | 5 | No information.
TROLL FISHERIES:
Atlantic Highly Migratory Species | 1 | No information.
South Pacific Albacore Troll | 22 | No information.
South Pacific Tuna Fisheries ** | 4 | No information.
Western Pacific Pelagic | 6 | No information.
Category III
LONGLINE FISHERIES:
Northwest Atlantic Bottom Longline | 1 | None documented.
Pacific Highly Migratory Species | 105 | None documented in the most recent 5 years of data.
PURSE SEINE FISHERIES:
Pacific Highly Migratory Species * ‸ | 7 | None documented.
TRAWL FISHERIES:
Northwest Atlantic | 2 | None documented.
TROLL FISHERIES:
Pacific Highly Migratory Species * | 149 | None documented.
List of Terms, Abbreviations, and Symbols Used in Table 3:
CA—California; GMX—Gulf of Mexico; HI—Hawaii; OR—Oregon; WA—Washington; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
‸The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I Mid-Atlantic gillnet.
| Northeast/Mid-Atlantic American lobster trap/pot.
| Northeast sink gillnet.
| Category II
| Atlantic blue crab trap/pot.
| Atlantic mixed species trap/pot.
| Northeast anchored float gillnet.
| Northeast drift gillnet.
| Southeast Atlantic gillnet.
| Southeastern U.S. Atlantic shark gillnet.*
| Southeastern, U.S. Atlantic, Gulf of Mexico stone crab trap/pot.^
Bottlenose Dolphin Take Reduction Plan (BDTRP)—50 CFR 229.35 | Category I Mid-Atlantic gillnet.
| Category II
| Atlantic blue crab trap/pot.
| Chesapeake Bay inshore gillnet fishery.
| Mid-Atlantic haul/beach seine.
| Mid-Atlantic menhaden purse seine.
| NC inshore gillnet.
| NC long haul seine.
| NC roe mullet stop net.
| Southeast Atlantic gillnet.
| Southeastern U.S. Atlantic shark gillnet.
| Southeastern U.S. Atlantic, Gulf of Mexico shrimp trawl.^
| Southeastern, U.S. Atlantic, Gulf of Mexico stone crab trap/pot.^
| VA pound net.
False Killer Whale Take Reduction Plan (FKWTRP)—50 CFR 229.37 | Category I HI deep-set longline.
| Category II
| HI shallow-set longline.
Harbor Porpoise Take Reduction Plan (HPTRP)—50 CFR 229.33 (New England) and 229.34 (Mid-Atlantic) | Category I Mid-Atlantic gillnet. Northeast sink gillnet.
Pelagic Longline Take Reduction Plan (PLTRP)—50 CFR 229.36 | Category I Atlantic Ocean, Caribbean, Gulf of Mexico large pelagics longline.
Pacific Offshore Cetacean Take Reduction Plan (POCTRP)—50 CFR 229.31 | Category I CA thresher shark/swordfish drift gillnet (≥14 in mesh).
Atlantic Trawl Gear Take Reduction Team (ATGTRT) | Category II Mid-Atlantic bottom trawl.
| Mid-Atlantic mid-water trawl (including pair trawl).
| Northeast bottom trawl.
| Northeast mid-water trawl (including pair trawl).
* Only applicable to the portion of the fishery operating in U.S. waters; ^ Only applicable to the portion of the fishery operating in the Atlantic Ocean.

Classification

The Chief Counsel for Regulation of the Department of Commerce has certified to the Chief Counsel for Advocacy of the Small Business Administration (SBA) that this LOF would not have a significant economic impact on a substantial number of small entities. Any entity with combined annual fishery landing receipts less than $11 million is considered a small entity. Under the former, lower size standards, all entities subject to this action were considered small entities; thus, they all would continue to be considered small under the new standards.

Under existing regulations, all individuals participating in Category I or II fisheries must register under the MMPA and obtain an Authorization Certificate. The Authorization Certificate authorizes the taking of non-endangered and non-threatened marine mammals incidental to commercial fishing operations. Additionally, individuals may be subject to a TRP and requested to carry an observer. NMFS has estimated that up to approximately 77,385 fishing vessels, most with annual revenues below the SBA's small entity thresholds, may operate in Category I or II fisheries. As fishing vessels operating in Category I or II fisheries, they are required to register with NMFS. Three hundred and thirteen fishing vessels are new to Category II as a result of this proposed LOF. The MMPA registration process is integrated with existing state and Federal licensing, permitting, and registration programs. Therefore, individuals who have a state or Federal fishing permit or landing license, or who are authorized through another related state or Federal fishery registration program, are currently not required to register separately under the MMPA or pay the $25 registration fee. Therefore, this proposed LOF would not impose any direct costs on small entities. Record keeping and reporting costs associated with this LOF are minimal and would not have a significant impact on a substantial number of small entities.

If a vessel is requested to carry an observer, vessels will not incur any direct economic costs associated with carrying that observer. As a result of this certification, an initial regulatory flexibility analysis is not required and has not been prepared. In the event that reclassification of a fishery to Category I or II results in a TRP, economic analyses of the effects of that TRP would be summarized in subsequent rulemaking actions.

This LOF contains collection-of-information (COI) requirements subject to the Paperwork Reduction Act. The COI for the registration of individuals under the MMPA has been approved by the Office of Management and Budget (OMB) under OMB control number 0648-0293 (0.15 hours per report for new registrants). The requirement for reporting marine mammal mortalities or injuries has been approved by OMB under OMB control number 0648-0292 (0.15 hours per report). These estimates include the time for reviewing instructions, searching existing data sources, gathering and maintaining the data needed, and completing and reviewing the COI. Send comments regarding these reporting burden estimates or any other aspect of the COI, including suggestions for reducing burden, to NMFS and OMB (see ADDRESSES and SUPPLEMENTARY INFORMATION).

Notwithstanding any other provision of law, no person is required to respond to, nor shall a person be subject to a penalty for failure to comply with a COI, subject to the requirements of the Paperwork Reduction Act, unless that COI displays a currently valid OMB control number.

This proposed rule has been determined to be not significant for the purposes of Executive Orders 12866 and 13563.

This rule is not expected to be an E.O. 13771 regulatory action because this rule is not significant under E.O. 12866.

NMFS preliminary determined the proposed LOF is consistent with categories of activities identified in CE G7 (“Preparation of policy directives, rules, regulations, and guidelines of an administrative, financial, legal, technical, or procedural nature, or for which the environmental effects are too broad, speculative or conjectural to lend themselves to meaningful analysis and will be subject later to the NEPA process, either collectively or on a case-by-case basis”) of the Companion Manual for NAO 216-6A and we have not identified any extraordinary circumstances listed in Chapter 4 of the Companion Manual for NAO 216-6A that would preclude application of this categorical exclusion. If NMFS takes a management action, for example, through the development of a TRP, NMFS would first prepare an Environmental Impact Statement (EIS) or Environmental Assessment (EA), as required under NEPA, specific to that action.

This proposed LOF would not affect species listed as threatened or endangered under the ESA or their associated critical habitat. The impacts of numerous fisheries have been analyzed in various biological opinions, and this LOF will not affect the conclusions of those opinions. The classification of fisheries on the LOF is not considered to be a management action that would adversely affect threatened or endangered species. If NMFS takes a management action, for example, through the development of a TRP, NMFS would consult under ESA section 7 on that action.

This proposed LOF would have no adverse impacts on marine mammals and may have a positive impact on marine mammals by improving knowledge of marine mammals and the fisheries interacting with marine mammals through information collected from observer programs, stranding and sighting data, or take reduction teams.

This proposed LOF would not affect the land or water uses or natural resources of the coastal zone, as specified under section 307 of the Coastal Zone Management Act.

References

Allen, B.M. and R.P. Angliss, editors. 2016. Alaska Marine Mammal Stock Assessments, 2015. NOAA Tech. Memo. NMFS-AFSC-323. 309 p.

Carretta, J.V., E. Oleson, D.W. Weller, A.R. Lang, K.A. Forney, J. Baker, M.M. Muto, B. Hanson, A.J. Orr, H. Huber, M.S. Lowry, J. Barlow, J.E. Moore, D. Lynch, L. Carswell, and R.L. Brownell Jr. 2015. U.S. Pacific Marine Mammal Stock Assessments: 2014. NOAA Technical Memorandum NOAA-TM-NMFS-SWFSC-549. 414 p.

Carretta, J.V., K.A. Forney, E. Oleson, D.W. Weller, A.R. Lang, J. Baker, M.M. Muto, B. Hanson, A.J. Orr, H. Huber, M.S. Lowry, J.Barlow, J.E. Moore, D. Lynch, L. Carswell, and R.L. Brownell Jr. 2017. U.S. Pacific Marine Mammal Stock Assessments: 2016. NOAA Technical Memorandum NOAA-TM-NMFS-SWFSC-577. 414 p.

Carretta, J.V., J.E. Moore, and K.A. Forney. 2017. Regression tree and ratio estimates of marine mammal, sea turtle, and seabird bycatch in the California drift gillnet fishery: 1990-2015. NOAA Technical Memorandum, NOAA-TM-NMFS-SWFSC-568. 83 p. doi:10.7289/V5/TM-SWFSC-568.

Carretta, J.V., M.M. Muto, S. Wilkin, J. Greenman, K. Wilkinson, D. Lawson, J. Viezbicke, and J. Jannot. 2017. Sources of human-related injury and mortality for U.S. Pacific west coast marine mammal stocks assessments, 2011-2015. NOAA-TM-NMFS-SWFSC-579. 126 p.

Hayes, S.A., E. Josephson, K. Maze-Foley, and P.E. Rosel, editors. 2017. U.S. Atlantic and Gulf of Mexico Marine Mammal Stocks Assessments, 2016. NOAA Technical Memorandum NOAA-NE-241. 274 p.

Jannot, J.E., V. Tuttle, K. Somers, Y-W. Lee, J. McVeigh. 2016. Marine Mammal, Seabird, and Sea Turtle Summary of Observed Interactions, 2002-2014. Fisheries Observation Science, Fishery Resource Analysis and Monitoring Division, Northwest Fisheries Science Center.

McCracken, M.L. 2016. Assessment of Incidental Interactions with Marine Mammals in the Hawaii Deep and Shallow Set Fisheries from 2010 through 2014. NMFS Pacific Islands Fisheries Science Center, PIFSC Internal Report IR-16-008. 2 p. + Excel spreadsheet.

Muto, M.M., V.T. Helker, R.P. Angliss, B.A. Allen, P.L. Boveng, J.M. Breiwick, M.F. Cameron, P.J. Clapham, S.P. Dahle, M.E. Dahlheim, B.S. Fadely, M.C. Ferguson, L.W. Fritz, R.C. Hobbs, Y.V. Ivashchenko, A.S. Kennedy, J.M. London, S.A. Mizroch, R.R. Ream, E.L. Richmond, K.E.W. Shelden, R.G. Towell, P.R. Wade, J.M. Waite, and A.N. Zerbini. 2017. Alaska Marine Mammal Stock Assessments, 2016. NOAA Technical Memorandum NOAA-TM-NMFS-AFSC-355. 367 p.

National Marine Fisheries Service. 2012. National Marine Fisheries Service Policy Directive 02-238. Process for Distinguishing Serious from Non-Serious Injury of Marine Mammals, 4 p. (Available at: http://www.nmfs.noaa.gov/op/pds/documents/02/02-238.pdf).

Rone, B.K., A.N. Zerbini, A.B. Douglas, D.W. Weller, and P.J. Clapham. 2016. Abundance and distribution of cetaceans in the Gulf of Alaska. Marine Biology 164:23.

Waring, G.T., E. Josephson, K. Maze-Foley, and P.E. Rosel, editors. 2016. U.S. Atlantic and Gulf of Mexico Marine Mammal Stocks Assessments, 2015. NOAA Technical Memorandum NOAA-NE-238. 512 p.

Western Pacific Regional Fishery Management Council (WPRFMC). 2015a. Stock Assessment and Fishery Evaluation (SAFE) Report Pacific Island Pelagic Fisheries. 396 p.

Western Pacific Regional Fishery Management Council (WPRFMC). 2015b. Annual Stock Assessment and Fishery Evaluation Report: Fishery Ecosystem Plan for the American Samoa Archipelago. 202 p.

Dated: October 4, 2017.
Samuel D. Rauch, III,
Deputy Assistant Administrator for Regulatory Programs, National Marine Fisheries Service.

[FR Doc. 2017-21837 Filed 10-11-17; 8:45 am]

BILLING CODE 3510-22-P